DEPARTMENT OF COMMERCE

Foreign-Trade Zones Board

[Order No. 1239]

Approval for Expanded Manufacturing Authority (Industrial Diesel Engines, Parts of Industrial Robots), Within Foreign-Trade Subzone 15E, Kawasaki Motors Manufacturing Corp., U.S.A., Maryville, MO

Pursuant to its authority under the Foreign-Trade Zones Act of June 18, 1934, as amended (19 U.S.C. 81a-81u), the Foreign-Trade Zones Board (the Board) adopts the following Order:

Whereas, the Greater Kansas City Foreign-Trade Zone, Inc., grantee of FTZ 15, has requested authority on behalf of Kawasaki Motors Manufacturing Corp., U.S.A. (KMM), operator of FTZ Subzone 15E, located in Maryville, Missouri, to expand the scope of FTZ authority to include the manufacture of small, industrial diesel engines and industrial robot components under FTZ procedures (FTZ Doc. 5-2000, filed 3-1-2000);

Whereas, notice inviting public comment was given in the Federal Register (65 FR 12969, 3-10-2000);

Whereas, the Board adopts the findings and recommendations of the examiner's report, and finds that the requirements of the FTZ Act and the Board's regulations are satisfied, and that approval of the application is in the public interest;

Now therefore, the Board hereby approves the request subject to the FTZ Act and the Board's regulations, including Section 400.28.

Signed at Washington, DC, this 29th day of July 2002.
Faryar Shirzad,
Assistant Secretary of Commerce for Import Administration, Alternate Chairman, Foreign-Trade Zones Board.

[FR Doc. 02-20073 Filed 8-7-02; 8:45 am]

BILLING CODE 3510-DS-P